DEPARTMENT OF ENERGY

Environmental Management Site-Specific Advisory Board, Northern New Mexico

AGENCY: Department of Energy.

ACTION: Notice of Open Meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, January 25, 2012, 1 p.m.-7 p.m.

ADDRESSES: NNMCAB Offices, 96 Cities of Gold Road, Suite 3, Pojoaque, New Mexico 87506.

FOR FURTHER INFORMATION CONTACT: Menice Santistevan, Northern New Mexico Citizens' Advisory Board (NNMCAB), 1660 Old Pecos Trail, Suite B, Santa Fe, NM 87505. Phone (505) 995-0393; Fax (505) 989-1752 or Email: msantistevan@doeal.gov.

SUPPLEMENTARY INFORMATION: Purpose of the Board: The purpose of the Board is to make recommendations to DOE-EM and site management in the areas of environmental restoration, waste management, and related activities.

Tentative Agenda

1 p.m. Call to Order by Co-Deputy Designated Federal Officers (DDFO), Ed Worth and Lee Bishop.

Establishment of a Quorum: Roll Call and Excused Absences, Karen Erickson.

Welcome and Introductions, Ralph Phelps.

Approval of Agenda and November 30, 2011, Meeting Minutes.

1:30 p.m. Public Comment Period.

1:45 p.m. Old Business.

• Written Reports.

• Other Items.

2 p.m. New Business, Ralph Phelps.

2:30 p.m. Items from DDFOs, Ed Worth and Lee Bishop.

• Definition of One Contaminant (as requested).

• Other Items.

3 p.m. Break.

3:15 p.m. Presentation on Environmental Cleanup.

4:30 p.m. Discussion on Draft Recommendation(s) to DOE, Ralph Phelps.

5 p.m. Dinner Break.

6 p.m. Public Comment Period .

6:15 p.m. Consideration and Action on Draft Recommendation(s) to the DOE, Ralph Phelps.

6:30 p.m. Wrap up and Comments from Board Members.

7 p.m. Adjourn, Lee Bishop and Ed Worth.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.org/.

Issued at Washington, DC on December 14, 2011.
LaTanya R. Butler,
Acting Deputy Committee Management Officer.

[FR Doc. 2011-32535 Filed 12-19-11; 8:45 am]

BILLING CODE 6405-01-P